ENVIRONMENTAL PROTECTION AGENCY

[FRL-6550-2]

Proposed Cost Recovery Settlement Under Section 122(h)(1) of the Comprehensive Environmental Response, Compensation and Liability Act, as Amended (CERCLA), 42 U.S.C. 9622(h)(1)

AGENCY: Environmental Protection Agency.

ACTION: Notice of proposed cost recovery settlement pursuant to section 122(h)(1) of the Comprehensive Environmental Response, Compensation and Liability Act, as amended (CERCLA), 42 U.S.C. 9622(h)(1).

SUMMARY: The United States Environmental Protection Agency (EPA) is proposing to enter into a cost recovery administrative settlement to resolve a claim under the Comprehensive Environmental Response, Compensation and Liability Act, as amended (CERCLA), 42 U.S.C. 9622(h)(1). This settlement is intended to resolve the liability of the Estate of Jeanette Faye Burris for response costs incurred by EPA in connection with a removal action conducted by EPA at 5310 Broadway Avenue, N.E., Altoona, Polk County, Iowa.

The proposed settlement agreement was signed by the Director of EPA Region VII's Superfund Division on February 10, 2000. Because EPA's total response costs did not exceed $500,000, the Attorney General's concurrence is not required for this settlement.

DATES: Written comments must be provided on or before April 10, 2000.

ADDRESSES: Comments should be sent to David A. Hoefer, Office of Regional Counsel, United States Environmental Protection Agency, Region VII, 901 North 5th Street, Kansas City, Kansas 66101 and should refer to: In the of Matter of 5310 Broadway Avenue, N.E., Altoona, Polk County, Iowa, EPA Docket No. CERCLA-7-2000-0012.

The proposed administrative settlement may be examined in person at EPA's offices at 901 North 5th Street, Kansas City, Kansas 66101. To arrange to examine the administrative settlement in person please contact Mr. Hoefer at 913-551-7503. To request a copy by mail please refer to the matter name and the docket number set forth above and enclose a check in the amount of $3.00 for reproduction costs (25 cents multiplied by 12 pages), payable to the United States Environmental Protection Agency, and send your request to Kathy Robinson, Regional Hearing Clerk, 901 North 5th Street, Kansas City, KS 66101.

FOR FURTHER INFORMATION CONTACT: David Hoefer at 913-551-7503.

SUPPLEMENTARY INFORMATION: The proposed administrative settlement concerns property located at 5310 Broadway, N.E., Altoona, Polk County, Iowa (the “Site”) where EPA had conducted a removal action pursuant to CERCLA in 1997. Mrs. Burris (who died on April 25, 1999) was the owner of the Site and the Site is now part of her probate estate (Iowa District Court for Warren County, Probate No. 05911 ESPR017406).

The removal action performed by EPA involved the excavation and disposal of approximately 1,434 tons of soil contaminated with lead and polychlorinated biphenyls (PCBs), as well as the disposal of PCB capacitors and containerized waste oil which was contaminated with PCBs. EPA incurred costs of $189,523.79 (through July 31, 1998) in connection with this removal action.

Pursuant to this proposed administrative settlement, the Estate of Jeanette Faye Burris has agreed to pay to EPA 20% of the net proceeds from the sale of the Site, or $37,904.76 (which amount represents 20% of EPA's response costs of $189,523.79), whichever is less, in partial reimbursement of EPA's response costs.

Dated: February 17, 2000.
William Rice,
Acting Regional Administrator, Region 7.

[FR Doc. 00-5934 Filed 3-9-00; 8:45 am]

BILLING CODE 6560-50-U